FEDERAL COMMUNICATIONS COMMISSION

47 CFR Part 54

[WC Docket Nos. 10-90 and 14-259; Report 3025]

Petition for Reconsideration of Action in a Rulemaking Proceeding

AGENCY: Federal Communications Commission.

ACTION: Petition for reconsideration.

SUMMARY: A Petition for Reconsideration (Petition) has been filed in the Commission's Rulemaking proceeding by Harold Mordkofsky, on behalf of Halstad Telephone Company.

DATES: Oppositions to the Petition must be filed on or before August 24, 2015. Replies to an opposition must be filed on or before September 1, 2015.

ADDRESSES: Federal Communications Commission, 445 12th Street SW., Washington, DC 20554.

FOR FURTHER INFORMATION CONTACT: Alexander Minard, Telecommunications Access Policy Division, Wireline Competition Bureau, (202) 418-7400, email: Alexander.Minard@fcc.gov, TTY (202) 418-0484.

SUPPLEMENTARY INFORMATION: This is a summary of Commission's document, Report No. 3025, released July 20, 2015. The full text of Report No. 3025 is available for viewing and copying in Room CY-B402, 445 12th Street SW., Washington, DC or may be accessed online via the Commission's Electronic Comment Filing System at http://apps.fcc.gov/ecfs/. The Commission will not send a copy of this document pursuant to the Congressional Review Act, 5 U.S.C. 801(a)(1)(A), because this document does not have an impact on any rules of particular applicability.

Subjects: Connect America Fund; Rural Broadband Experiments, released by the Commission on June 15, 2015, in WC Docket Nos. 10-90 and 14-259, and published pursuant to 47 CFR 1.429(e). See also § 1.4(b)(1) of the Commission's rules.

Number of Petitions Filed: 1.

Federal Communications Commission.
Marlene H. Dortch,
Secretary.

[FR Doc. 2015-19374 Filed 8-6-15; 8:45 am]

BILLING CODE 6712-01-P